DEPARTMENT OF COMMERCE

International Trade Administration

[A-580-893]

Fine Denier Polyester Staple Fiber (PSF) From the Republic of Korea: Notice of Final Results of Antidumping Duty Changed Circumstances Review

AGENCY: Enforcement and Compliance, International Trade Administration, Department of Commerce.

SUMMARY: On August 23, 2019, the Department of Commerce (Commerce) published the initiation and preliminary results of the changed circumstances review (CCR) of the antidumping duty (AD) order on fine denier polyester staple fiber (PSF) from the Republic of Korea (Korea). For these final results, Commerce continues to find that Toray Advanced Materials Korea, Inc. (TAK) is the successor-in-interest to Toray Chemical Korea, Inc. (TCK).

DATES: Applicable October 2, 2019.

FOR FURTHER INFORMATION CONTACT: Thomas Hanna, AD/CVD Operations, Office IV, Enforcement and Compliance, International Trade Administration, U.S. Department of Commerce, 1401 Constitution Avenue NW, Washington, DC 20230; telephone: (202) 482-4682.

SUPPLEMENTARY INFORMATION:

Background

On May 23, 2019, TAK requested that, pursuant to section 751(b) of the Tariff Act of 1930, as amended (the Act), and 19 CFR 351.216(b), Commerce conduct a CCR of the AD order on PSF from Korea.¹ In its request, TAK argued that it is the successor-in-interest to its wholly-owned subsidiary TCK and, accordingly, Commerce should assign it the cash deposit rate established for TCK.² TAK stated that, in April 2019, TAK merged with TCK and, as a result of the merger, TAK assumed all of TCK's assets, rights, and liabilities.³

¹ See TAK's Letter, “Changed Circumstances Review Request,” dated May 23, 2019.

² Id.

³ Id.

On August 23, 2019, Commerce published the notice of initiation and preliminary results for this CCR, determining that TAK is the successor-in-interest to TCK.⁴ In the Initiation and Preliminary Results, we provided all interested parties an opportunity to comment and to request a public hearing regarding our preliminary finding that TAK is the successor-in-interest to TCK.⁵ We received no comments or requests for a public hearing from interested parties within the time period set forth in the Initiation and Preliminary Results.⁶

⁴ See Initiation and Preliminary Results of Changed Circumstances Review: Fine Denier Polyester Staple Fiber (PSF) From the Republic of Korea, 84 FR 44279 (August 23, 2019) (Initiation and Preliminary Results).

⁵ Id.

⁶ Id.

Scope of the Order

The merchandise covered by the order is fine denier polyester staple fiber (fine denier PSF), not carded or combed, measuring less than 3.3 decitex (3 denier) in diameter. The scope covers all fine denier PSF, whether coated or uncoated. Fine denier PSF is classifiable under the HTSUS subheading 5503.20.0025. Although the HTSUS subheadings are provided for convenience and customs purposes, the written description of the scope of the order is dispositive.

Final Results of CCR

For the reasons stated in the Initiation and Preliminary Results, and because we received no comments from interested parties to the contrary, Commerce continues to find that TAK is the successor-in-interest to TCK. As a result of this determination and consistent with established practice, we find that TAK should receive the cash deposit rate assigned to TCK. Consequently, Commerce will instruct U.S. Customs and Border Protection to suspend entries of subject merchandise produced or exported by TAK at TCK's current cash deposit rate of 0.00 percent.⁷ This cash deposit requirement will be effective upon the publication date of our final results for this CCR and shall remain in effect until further notice.

⁷ See Fine Denier Polyester Staple Fiber From the People's Republic of China, India, the Republic of Korea, and Taiwan: Antidumping Duty Orders, 83 FR 34545 (July 20, 2018).

Notification to Interested Parties

We are issuing this determination and publishing these final results and notice in accordance with sections 751(b)(1) and 777(i)(1) and (2) of the Act and 19 CFR 351.216(e), 351.221(b), and 351.221(c)(3).

Dated: September 25, 2019.
Jeffrey I. Kessler,
Assistant Secretary for Enforcement and Compliance.

[FR Doc. 2019-21443 Filed 10-1-19; 8:45 am]

BILLING CODE 3510-DS-P